GENERAL SERVICES ADMINISTRATION

[Notice-Q-2024-05; Docket No. 2024-0002; Sequence No. 40]

Federal Secure Cloud Advisory Committee Notification of Upcoming Meeting; Correction

AGENCY: Federal Acquisition Service (Q), General Services Administration (GSA).

ACTION: Notice of Advisory committee public meeting and request for public comment; correction.

SUMMARY: GSA published a document in the Federal Register of August 23, 2024, concerning the public meetings on September 12, 2024, and October 10, 2024, and request for public comments. The October 10th meeting is now being held on October 3rd.

FOR FURTHER INFORMATION CONTACT: Michelle White, Designated Federal Officer (DFO), FSCAC, GSA, 703-489-4160, fscac@gsa.gov.

SUPPLEMENTARY INFORMATION:

Corrections

In the Federal Register of August 23, 2024 in FR Doc. 2024-0002, on pages 68160 and 68161:

Correct the Dates section to read:

The open public meetings will be held virtually on Thursday, September 12, 2024, from 12:00 p.m. to 4:00 p.m., Eastern Time (ET), and Thursday, October 3, 2024, from 12:00 p.m. to 3:00 p.m., Eastern Time (ET).

Correct the Addresses section to read:

The meetings will be accessible via webcast. Separate registration is required for each meeting and will be made available prior to the meetings online at https://gsa.gov/fscac, by selecting the “Federal Secure Cloud Advisory Committee meetings” tab on the left, and then selecting the “September 12, 2024—Virtual” meeting accordion or “October 3, 2024—Virtual” meeting accordion in order to view all meeting materials, agendas, and registration information. Registrants will receive the webcast information before the meeting.

Correct the Purpose of the Meeting and Agenda under the Supplementary Information section to read:

The October 3, 2024 public meeting will be dedicated to deliberations in order to develop an initial draft of recommendations to the GSA Administrator on their initial two (2) priority initiatives of (1) identifying and documenting top challenges and proposing solutions around the barrier to entry for Cloud Service Providers (CSPs) with a focus on small businesses, third party assessment organizations (3PAOs), and small & large agencies, and (2) identifying and documenting ways to expedite the authorization process for Cloud Service Offerings (CSOs), such as exploring agile authorizations and other potential cost reductions, both labor and financial, with a focus on small businesses. Members of the public will have the opportunity to provide oral public comments during this meeting, and may also submit public comments in writing prior to this meeting by completing the public comment form on our website, https://gsa.gov/fscac. The meeting agenda will be posted on https://gsa.gov/fscac prior to the meeting and can be accessed by selecting the “Federal Secure Cloud Advisory Committee meetings” tab on the left, and then selecting the “October 3, 2024—Virtual” meeting accordion in order to view all meeting materials, agendas, and registration information.

Correct the Meeting Attendance under the Supplementary Information section to read:

Both of these virtual meetings are open to the public. The meeting materials, registration information, and agendas for the meetings will be made available prior to the meetings online at https://gsa.gov/fscac, by selecting the “Federal Secure Cloud Advisory Committee meetings” tab on the left, and then selecting the “September 12, 2024—Virtual” meeting accordion or “October 3, 2024—Virtual” meeting accordion. Registration for attending the virtual meeting on Thursday, September 12, 2024, is highly encouraged by 5:00 p.m. EST, on Monday, September 9, 2024. Registration for attending the virtual meeting on Thursday, October 3, 2024, is highly encouraged by 5:00 p.m. EST, on Monday, September 30, 2024. After registration, individuals will receive instructions on how to attend the meeting via email.

And correct the Public Comment under the Supplementary Information section to read:

Members of the public attending will have the opportunity to provide oral public comment during the FSCAC meeting. Written public comments can be submitted at any time by completing the public comment form on our website, https://gsa.gov/fscac, located under the “Get Involved” section. All written public comments will be provided to FSCAC members in advance of the meeting if received by Wednesday, September 4, 2024, for the Thursday, September 12, 2024 meeting; and by Wednesday, September 25, 2024, for the Thursday, October 3, 2024 meeting, respectively.

Margaret Dugan,
Service-Level Liaison, Federal Acquisition Service, General Services Administration.

[FR Doc. 2024-19822 Filed 9-3-24; 8:45 am]

BILLING CODE 6820-34-P